DEPARTMENT OF HEALTH AND HUMAN SERVICES

Centers for Disease Control and Prevention

Interagency Committee on Smoking and Health: Meeting Cancelled

In accordance with section 10(a)(2) of the Federal Advisory Committee Act (Pub L. 92-463), the National Center for Chronic Disease Prevention and Health Promotion (NCCDPHP) of the Centers for Disease Control and Prevention (CDC) announces the following: Meeting Cancelled.

Name: Interagency Committee on Smoking and Health.

Date and Time: 9 a.m.-5 p.m., December 13, 2001.

Place: Room 800, Hubert H. Humphrey Building, 200 Independence Avenue, SW., 6th Floor, Washington, DC 20201.

Federal Register Citation of Previous Announcement: Federal Register: November 26, 2001 (Volume 66, Number 227)] [Notices] [Page 59023] [DOCID:fr26no01-53]

Contact Person for More Information: Substantive program information as well as summaries of the meeting and roster of committee members may be obtained from the Internet www.cdc.gov/tobacco in mid-January 2002, or from Ms. Monica L. Swann, Interagency Committee on Smoking and Health, Office on Smoking and Health, NCCDPHP, CDC, 200 Independence Avenue, SW., Room 317B, Washington, DC, 20201, telephone (202) 205-8500.

The Director, Management Analysis and Services Office, has been delegated the authority to sign Federal Register notices pertaining to announcements of meetings and other committee management activities, for both the Centers for Disease Control and Prevention and the Agency for Toxic Substances and Disease Registry.

Dated: November 28, 2001.
Joseph Salter,
Acting Director, Management Analysis and Services Office, Centers for Disease Control and Prevention.

[FR Doc. 01-29954 Filed 12-3-01; 8:45 am]

BILLING CODE 4163-18-P